DEPARTMENT OF AGRICULTURE

Foreign Agricultural Service

Notice of Funding Availability: Inviting Applications for McGovern-Dole International Food for Education and Child Nutrition Program

Announcement Type: New.

Catalog of Federal Domestic Assistance (CFDA) Number: 10.608.

SUMMARY: The Foreign Agricultural Service (FAS) announces it is inviting applications for the McGovern-Dole International Food for Education and Child Nutrition program (McGovern-Dole). Total resources are expected to be about $190 million, but are contingent on final FY 2012 appropriations action. Eligible applicants may submit applications through October 26, 2011. The McGovern-Dole program is administered by FAS.

DATES: All applications must be received by 5 p.m. Eastern Standard Time, October 26, 2011. Applications received after this date will not be considered.

FOR FURTHER INFORMATION CONTACT: Food Assistance Division, Office of Capacity Building and Development, Foreign Agricultural Service, 1250 Maryland Avenue, Suite 400, SW., Washington, DC 20024; by phone: (202) 720-4221; by fax: (202) 690-0251; or by e-mail at: ppded@fas.usda.gov.

SUPPLEMENTARY INFORMATION:

I. Funding Opportunity Description

A. Authority: The McGovern-Dole program is authorized by the Farm Security and Rural Investment Act of 2002, as amended.

B. Purpose: The McGovern-Dole program promotes education, child development, and food security for poor children in low-income countries through the donation of U.S. agricultural commodities as well as the provision of financial and technical assistance. The commodities are made available for donation through agreements with Private Voluntary Organizations (PVOs), cooperatives, intergovernmental organizations, and foreign governments. Financial assistance is also provided for administrative and activity costs associated with achieving the objectives of the program.

C. Objectives: For this notice, FAS is concentrating McGovern-Dole program resources toward achieving two objectives: (1) Improve the literacy of school age children and (2) sustaining the benefits made during project implementation to literacy, attendance, and enrollment by graduating the project to the host country. For more information on the objectives, please see Section V of this notice.

D. Priorities: FAS will give priority consideration to otherwise acceptable applications that support results for priority countries and regions listed at: http://www.fas.usda.gov/excredits/FoodAid/FFE/FFEPriorities.asp. FAS will also give priority to requests to continue existing McGovern-Dole projects for non-priority countries and non-priority regions. Applications to continue existing projects must meet all of the criteria described in this notice including incorporation of program objectives.

II. Award Information

A. Award Size: Grants provided under the McGovern-Dole program normally range from $3-$10 million per year.

B. Type of Award: All awards will be made in the form of competitive grants.

III. Eligibility Information

For eligibility requirements, see the McGovern-Dole program regulations (7 CFR 1599.3).

IV. Application and Submission Information

A. Application Content: An applicant for funding under the McGovern-Dole program shall submit an application that contains the information specified in 7 CFR 1599.4, which includes a completed form SF-424, an Introductory Statement, a Plan of Operation, and a proposed budget. Guidance on preparing the Introductory Statement, a Plan of Operation, and a budget can be found in the proposal entry module of the Food Aid Information System (FAIS) at the following address at: http://www.fas.usda.gov/fais/public. Additionally, the application shall include a plan to monitor the implementation of all program activities, a Performance Monitoring Plan, and a plan to evaluate all activities and report to FAS on the impact, in accordance with the policy found at: http://www.fas.usda.gov/excredits/FoodAid/FFE/EvaluationPolicy.asp.

B. Method of Submission: The entire application package must be submitted electronically to FAS's online proposal entry system, the FAIS, located at: http://www.fas.usda.gov/fais/public.

C. Deadline for Submission: All applications must be received by 5 p.m. Eastern Standard Time, October 26, 2011. Applications received after this date will not be considered.

V. Selecting Project Objectives and Results

A. Results Frameworks: In an effort to use scarce resources more strategically, FAS has developed results frameworks for the McGovern-Dole program. This framework corresponds to the highest-level objective that the McGovern-Dole program strives to achieve: improve the literacy of school age children. Applications that do not contribute to this highest-level result will not be funded. However, FAS considers sustaining the benefits made to literacy, attendance, and enrollment of equal importance. Therefore all applications must include a plan to graduate project activities to the host country that consists of specific activities linked to specific results in the framework and timelines for achieving them. A matrix of possible activities that support sustainability as well as the results framework are available on the FAS Web site at: http://www.fas.usda.gov/excredits/FoodAid/FFE/ResultsFrameworks.pdf.

B. Incorporating Results Into Proposals: Applicants must submit an illustration of a framework that shows the intended results for the proposed project. The project framework submitted by the applicant must be consistent with the program-level framework that FAS has developed. However, applicants can add results to or subtract results from the framework as appropriate but cannot modify any of the remaining results. Within the Introductory Statement, applicants must also provide an assessment of how the proposed project will contribute to the high-level objective of the McGovern-Dole program framework as well as how graduation will be achieved. The assessment should focus on the country specific context for the project including key problems or barriers that limit an applicant's ability in achieving the high-level objective. The assessment should provide to USDA an understanding of why the application will include results for specific portions of the frameworks and exclude results from others. The assessment will allow USDA to follow the contributions of the application in the framework and to make sure the application addresses key problems, barriers, or weaknesses in the country. Applicants should also list strengths in the countries or investments by other donors that explain the rationale for excluding results.

C. Additional Information: For specific guidance on how to incorporate the frameworks into an application as well as a list of performance management indicators, both required and optional, please see our application guidance at: http://www.fas.usda.gov/excredits/FoodAid/FFE/FrameworkGuidance.asp.

VI. Application Review Criteria

A. Review Process: FAS will review all responsive applications that are submitted by the deadline. FAS will invite comments from other U.S. governmental agencies on its award recommendations, but FAS will make the final determination about which applications to fund.

B. Criteria: FAS will review and evaluate each application using the following criteria:

1. Program Design and Alignment with the Solicitation (15 percent) including:

(a) Clearly defined objective and activities that are logically tied to the results to be achieved;

(b) Alignment with the McGovern-Dole results framework;

(c) The quality of the project's performance measures, and the degree to which they relate to the objective, deliverables, and proposed approach and activities;

(d) Detailed understanding of the need for the project;

(e) Clearly described project design and explanation of how the applicant will implement the project;

2. In-country coordination (10 percent) including:

(a) An established relationship with the recipient government;

(b) Description of how the applicant will work with the recipient government to implement the project;

(c) Description of what other stakeholders, including other USG agencies (USAID, State, etc.), are doing to address poverty, hunger and deficient primary education in the recipient country, what needs remain, and how the proposed program complements and does not duplicate those activities;

(d) A demonstration that the proposed activities fit into the host government's national food security plans and any education and nutrition plans; and

(e) Demonstrated cooperation with other USG agencies doing development work.

3. Commodity and Funds Appropriateness and Management (5 percent) including:

(a) Commodity type and tonnages are clearly described;

(b) Storage and handling procedures for the commodity are described;

(c) Specific country concerns such as customs exemptions, tariffs, or other barriers are addressed; and

(d) A clear description of how the funds provided by FAS will be used and how they will complement the commodities requested.

4. Organizational Capability and Experience (10 percent) including:

(a) A description of the organization's past experience working on school feeding, education, and other development projects;

(b) Description of the organization's financial management capability;

(c) Description of the organization's project management capability;

(d) Description of past programs with USDA, USAID, or other USG agency;

(e) Experience working in the country of the proposed project; and

(f) Registration in country or a plan to become registered.

5. Sustainability and Graduation (20 percent) including:

(a) A detailed plan for graduating the project including methods and timelines that are realistic and incorporated into the McGovern-Dole project framework;

(b) A description of the recipient government's financial or in-kind support of the proposed activities will help continue the project beyond the years of the proposal; and

(c) A description of the local community's support for the project and willingness to sustain it.

6. Literacy (20 percent) including:

(a) A description of the activities to be undertaken and how they support the results cited;

(b) Realistic and achievable outputs for the activities described;

(c) Realistic, achievable, and meaningful outcomes relevant to the outputs of all activities;

(d) A description of how the required indicators will be incorporated; and

(e) A full description of all beneficiaries.

7. Program Monitoring and Evaluation (10 percent) including:

(a) Well developed, recent, and clear baselines and target goals;

(b) Clearly described monitoring and evaluation plan sufficient to provide FAS with a full accounting of all activities and indicators; and

(c) Qualified monitoring team.

8. Application Quality (5 percent) including:

(a) Application is complete with all necessary sections;

(b) Application is consistent; and

(c) Application is clear.

9. The following factors will reduce FAS's evaluation of the application because they negatively reflect on an organization's ability to successfully implement and complete a grant agreement with USDA.

(a) FAS has terminated an agreement with the organization for violations within the last three years.

(b) The organization owes USDA a debt that is not covered by a payment plan or other method of resolution.

(c) The organization has submitted late or has not submitted at all two or more required reports in the last three years.

(d) The organization has not responded to FAS`s deadlines for documents required to closeout an agreement on two or more occasions within the last three years.

VII. Award Administration Information

1. Award Notices: FAS will notify each applicant in writing of the final disposition of its application. FAS will send a letter to each approved applicant that will specify the amount of funding. Once the approved applicant receives this letter, FAS will begin negotiations with the applicant to develop a grant agreement. The agreement will incorporate the details of the project as approved by FAS and in accordance with the McGovern-Dole program regulations, 7 CFR part 1599.

2. Reporting: An organization receiving funding under the McGovern-Dole program will be required to provide quarterly financial reports, semi-annual logistics and monitoring reports, project status reports, a baseline study, a mid-term evaluation, and a final evaluation report, as provided in the grant agreement. All reports must be submitted using the FAIS. All organizations receiving funding will be required to report against the indicators in the agreement at each reporting cycle. Changes in the original project timelines and adjustments within project budgets must be approved by FAS prior to their implementation.

3. Monitoring and Evaluation: A program participant shall submit to FAS, in the manner specified in the agreement, an annual financial audit in accordance with 7 CFR 1599.13(d). If FAS requires an annual financial audit with respect to a particular agreement, and FAS provides funds for this purpose, the participant shall arrange for such audit and submit it to FAS, in the manner specified in the agreement. The participant shall provide to FAS additional information or reports relating to the agreement if requested by FAS.

Signed at Washington, DC, on July 20, 2011.
Suzanne E. Heinen,
Acting Administrator, Foreign Agricultural Service.

[FR Doc. 2011-19135 Filed 7-27-11; 8:45 am]

BILLING CODE 3410-10-P